U.S.-CHINA ECONOMIC AND SECURITY REVIEW COMMISSION

Notice of Open Public Meetings

AGENCY: U.S.-China Economic and Security Review Commission.

ACTION: Notice of open public meetings.

SUMMARY: Notice is hereby given of meetings of the U.S.-China Economic and Security Review Commission to review and edit drafts of the 2021 Annual Report to Congress. The Commission is mandated by Congress to investigate, assess, and report to Congress annually on the “the national security implications of the economic relationship between the United States and the People's Republic of China.” Pursuant to this mandate, the Commission will hold public meetings to review and edit drafts of the 2021 Annual Report to Congress.

DATES: The meetings are scheduled for Wednesday, June 30, 2021, from 9:00 a.m. to 5:00 p.m..; Thursday, August 5, 2021, from 9:00 a.m. to 5:00 p.m.; Thursday, September 9, 2021, from 9:00 a.m. to 5:00 p.m.; and Wednesday, October 6, 2021, from 9:00 a.m. to 5:00 p.m.

ADDRESSES: The June, August, and September sessions will be held in the Hall of the States, Room 233 located at 444 North Capitol Street NW, Washington, DC 20001. The October session will be held in the Hall of the States, Room 333, located at 444 North Capitol Street NW, Washington, DC 20001. Public seating is limited and will be available on a “first-come, first-served” basis. Reservations are not required to attend the meetings.

FOR FURTHER INFORMATION CONTACT: Any member of the public seeking further information concerning the meetings should contact Jameson Cunningham, 444 North Capitol Street NW, Suite 602, Washington, DC 20001; telephone: 202-624-1496, or via email at jcunningham@uscc.gov. Reservations are not required to attend the meetings.

ADA Accessibility: For questions about the accessibility of the event or to request an accommodation, please contact Jameson Cunningham at 202-624-1496, or via email at jcunningham@uscc.gov. Requests for an accommodation should be made as soon as possible, and at least five business days prior to the event.

SUPPLEMENTARY INFORMATION: Purpose of Meeting: Pursuant to the Commission's mandate, members of the Commission will meet to review and edit drafts of the 2021 Annual Report to Congress. The Commission is subject to the Federal Advisory Committee Act (FACA) with the enactment of the Science, State, Justice, Commerce and Related Agencies Appropriations Act, 2006 that was signed into law on November 22, 2005 (Pub. L. 109-108). In accordance with FACA, the Commission's meetings to make decisions concerning the substance and recommendations of its 2021 Annual Report to Congress are open to the public.

Topics to Be Discussed: Editing and review sessions will cover material prepared for the 2021 Annual Report, including: a review of economics, trade, security and foreign affairs developments in 2021; U.S.-China relations at the Chinese Communist Party's centennial; China in Latin America and the Caribbean; the Chinese Communist Party's economic ambitions; U.S. investment in China's capital markets and military industrial complex; China's nuclear capabilities, posture, and proliferation; Taiwan; and Hong Kong.

Required Accessibility Statement: These meetings will be open to the public. The Commission may recess the meetings to address administrative issues in closed session. The Commission will also recess the meetings around noon for a lunch break. At the beginning of the lunch break, the Chairman will announce what time the meetings will reconvene.

Authority: Congress created the U.S.-China Economic and Security Review Commission in 2000 in the National Defense Authorization Act (Pub. L. 106-398), as amended by Division P of the Consolidated Appropriations Resolution, 2003 (Pub. L. 108-7), as amended by Public Law 109-108 (November 22, 2005), as amended by Public Law 113-291 (December 19, 2014).

Dated: June 10, 2021.
Daniel W. Peck,
Executive Director, U.S.-China Economic and Security Review Commission.

[FR Doc. 2021-12575 Filed 6-15-21; 8:45 am]

BILLING CODE 1137-00-P